DEPARTMENT OF HOMELAND SECURITY

Office of the Secretary

[Docket No. DHS-2006-0017]

Privacy Act of 1974: System of Records

AGENCY: Privacy Office, Department of Homeland Security.

ACTION: Notice of Privacy Act system of records.

SUMMARY: In accordance with the Privacy Act of 1974, the Department of Homeland Security is giving notice that it proposes to add a new system of records to its inventory of record systems for Department of Homeland Security General Training Records.

DATES: Comments must be received on or before June 7, 2006.

ADDRESSES: You may submit comments, identified by docket number DHS-2006-0017, by one of the following methods:

Federal eRulemaking Portal: http://www.regulations.gov. Follow the instructions for submitting comments.

Fax: (571) 227-4171 (This is not a toll-free number).

Mail: Maureen Cooney, Acting Chief Privacy Officer, DHS Privacy Office, Mail Stop C-3, 601 S. 12th Street, Arlington, VA 22202-4220.

Instructions: All submissions received must include the agency name and docket number for this notice. All comments received will be posted without change and may be read at http://www.regulations.gov, including any personal information provided.

FOR FURTHER INFORMATION CONTACT: Maureen Cooney, Acting Chief Privacy Officer, Department of Homeland Security, by telephone (571) 227-3813 or facsimile (571) 227-4171.

SUPPLEMENTARY INFORMATION: Pursuant to the savings clause in the Homeland Security Act of 2002, Public Law 107-296, section 1512, 116 Stat. 2310 (Nov. 25, 2002), the Department of Homeland Security (DHS) and its components and offices have relied on preexisting Privacy Act systems of records notices for the maintenance of records that concern training of current and former Departmental employees, contractors, and other individuals. See, e.g., CS.238, Customs Service Training and Career Individual Development Plans and C.239, Customs Service Training Records, last published on October 18, 2001 at 66 FR 2984.

As part of its efforts to streamline and consolidate its record systems, DHS is establishing a new agency-wide system of records under the Privacy Act (5 U.S.C. 552a) for the Department of Homeland Security (DHS) General Training Records. This record system will allow all component parts of DHS to collect and preserve training records under one centralized system. The system will consist of both electronic and paper records and will be used by DHS and its components and offices to maintain records about individual training, including enrollment and participation information, information pertaining to class schedules, programs, and instructors, training trends and needs, testing and examination materials, and assessments of training efficacy. The data will be collected by employee name or other unique personal identifier. The collection and maintenance of this information will assist DHS in meeting its obligation to train its personnel, contractors, and others in order to ensure that the agency mission can be successfully accomplished.

The Privacy Act embodies Fair Information principles in a statutory framework governing the means by which the United States Government collects, maintains, uses, and disseminates personally identifiable information. The Privacy Act applies to information that is maintained in a “system of records.” A “system of records” is a group of any records under the control of an agency from which information is retrieved by the name of an individual or by some identifying number, symbol, or other identifying particular assigned to the individual. Individuals may request their own records that are maintained in a system of records in the possession or under the control of DHS by complying with DHS Privacy Act regulations, 6 CFR 5.21.

The Privacy Act requires that each agency publish in the Federal Register a description denoting the type and character of each system of records in order to make agency recordkeeping practices transparent, to notify individuals about the use to which personally identifiable information is put, and to assist the individual to more easily find files within the agency.

In accordance with 5 U.S.C. 552a(r), DHS has provided a report of this revised system of records to the Office of Management and Budget and to the Congress.

System of Records

DHS/All-003

System Name:

Department of Homeland Security General Training Records.

Security Classification:

Unclassified; sensitive.

System Location:

Records are maintained at several Headquarters locations and in component offices of the Department of Homeland Security, in both Washington, DC and field locations.

This system of records will cover:

1. Any individual who is or has been an employee of DHS and who has applied for, participated in or assisted with a training program;

2. Any other Federal employee or private individual, including contractors and others, who has participated in or assisted with training programs recommended, sponsored or operated by the Department of Homeland Security.

Authority for Maintenance of the System:

The Homeland Security Act of 2002, Public Law 107-296, 6 U.S.C. 121; Federal Records Act, 44 U.S.C. 3101; 6 CFR Part 5; 5 U.S.C. app. 3; 5 U.S.C. 301 and Ch. 41; Executive Order 11348, as amended by Executive Order 12107; and Executive Order 9397 (SSN).

Categories of Individuals Covered by the System:

Current and former employees of DHS, volunteers and contractors; other participants in training programs, including instructors, course developers, observers, and interpreters.

Categories of Records in the System:

The system includes all records pertaining to training, including nomination forms; registration forms; course rosters and sign-in sheets; instructor lists; schedules; payment records, including financial, travel and related expenditures; examination and testing materials; grades and student evaluations; course and instructor critiques; equipment issued to trainees and other training participants; and other reports pertaining to training. Names and social security numbers are included in these records. Records of individuals who apply for but are not accepted for training may also be included in this system.

Purpose:

This record system will collect and document training given to DHS employees, contractors and others. It will provide DHS with a means to track the particular training that is provided, identify training trends and needs, monitor and track the expenditure of training and related travel funds, schedule training classes and programs, schedule instructors, track training items issued to students, assess the effectiveness of training, identify patterns, respond to requests for information related to the training of DHS personnel and other individuals, and facilitate the compilation of statistical information about training.

Routine Uses of Records Maintained in the System, including Categories of Users and the Purposes of such Uses:

In addition to those disclosures generally permitted under 5 U.S.C. 552a(b) of the Privacy Act, all or a portion of the records or information contained in this system may be disclosed outside DHS as a routine use pursuant to 5 U.S.C. 552a(b)(3) as follows:

A. When a record, either on its face on in conjunction with other information, indicates a violation or potential violation of law, whether criminal, civil or administrative, the relevant records may be referred to an appropriate Federal, State, territorial, tribal, local, international, or foreign law enforcement agency or other appropriate authority charged with investigating or prosecuting such a violation or enforcing or implementing such law.

B. To a Federal, State, tribal, local or foreign government agency or professional licensing authority in response to its request, in connection with the hiring or retention of an employee, the issuance of a security clearance, the reporting of an investigation of an employee, the letting of a contract, or the issuance or status of a license, grant, or other benefit by the requesting entity, to the extent that the information is relevant and necessary to the requesting entity's decision on the matter.

C. To the news media and the public where there exists a legitimate public interest in the disclosure of the information or when disclosure is necessary to preserve confidence in the integrity of the Department or is necessary to demonstrate the accountability of the Department's officers, employees, or individuals covered by the system, except to the extent it is determined that release of the specific information in the context of a particular case would constitute an unwarranted invasion of personal privacy.

D. To the National Archives and Records Administration or other federal government agencies in records management inspections conducted under the authority of 44 U.S.C. 2904 and 2906.

E. To contractors, grantees, experts, consultants, students, and others performing or working on a contract, service, grant, cooperative agreement, or other assignment for the Federal Government, when necessary to accomplish an agency function related to this system of records.

F. To the Department of Justice or other Federal agency conducting litigation or in proceedings before any court, adjudicative or administrative body, when: (a) DHS, or (b) any employee of DHS in his/her official capacity, or (c) any employee of DHS in his/her individual capacity where DOJ or DHS has agreed to represent the employee, or (d) the United States or any agency thereof, is a party to the litigation or has an interest in such litigation, and DHS determines that disclosure is relevant and necessary to the litigation.

G. To a congressional office from the record of an individual in response to an inquiry from that congressional office made at the request of the individual to whom the record pertains.

H. To educational institutions or training facilities for purposes of enrollment and verification of employee attendance and performance.

I. To an agency, organization, or individual for the purposes of performing authorized audit or oversight operations.

J. To the Equal Employment Opportunity Commission, Merit Systems Protection Board, Office of the Special Counsel, Federal Labor Relations Authority, or Office of Personnel Management or to arbitrators and other parties responsible for processing any personnel actions or conducting administrative hearings or appeals, or if needed in the performance of authorized duties.

K. To the Department of Justice or a consumer reporting agency for further action on a delinquent debt when circumstances warrant.

Policies and Practices for Storing, Retrieving, Accessing, Retaining, and Disposing of Records in the System:

Storage:

Records in this system are stored electronically or on paper in secure facilities. The records are stored on magnetic disc, tape, digital media, and CD-ROM, and may also be retained in hard copy format in secure folders.

Retrievability:

Data may be retrieved by the individual's name, Social Security Number, other personal identifier.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions. The system maintains a real-time auditing function of individuals who access the system.

Retention and Disposal:

Records are maintained and disposed in accordance with National Archives and Records Administration General Records Schedule, No. 1.

System Manager(s) and Address:

The records are maintained at the Headquarters offices of the Department of Homeland Security in Washington, DC and in component offices located in Washington and elsewhere.

Notification Procedure:

Individuals seeking notification and access to any record contained in this system of records, or seeking to contest its content, may inquire in writing to the DHS Privacy Officer at the U.S. Department of Homeland Security, Privacy Office, Arlington, Virginia 22202 or to the respective DHS component or office where the records are maintained.

Record Access Procedure:

See “Notification Procedure” above.

Contesting Record Procedures:

See “Notification Procedure” above.

Information contained in the records is obtained from employees, contractors, volunteers and others and from government and non-government organizations and individuals that provide training to agency employees.

Exemptions Claimed for the System:

Certain records in this system may be exempt on the basis of 5 U.S.C. 552a(k)(6) in order to preserve the objectivity and fairness of testing and examination material.

Dated: April 28, 2006.
Maureen Cooney,
Acting Chief Privacy Officer.

[FR Doc. E6-6809 Filed 5-5-06; 8:45 am]

BILLING CODE 4410-10-P